DEPARTMENT OF ENERGY

Federal Energy Regulatory Commission

[Docket No. AD14-8-000]

Winter 2013-2014 Operations and Market Performance in Regional Transmission Organizations and Independent System Operators; Notice of Technical Conference

Take notice that the Federal Energy Regulatory Commission (Commission) will hold a Commission-led technical conference on Winter 2013-2014 Operations and Market Performance in Regional Transmission Organizations and Independent System Operators on April 1, 2014 beginning at 9:00 a.m. and ending at approximately 5:00 p.m. The conference will be held at the Federal Energy Regulatory Commission, 888 First Street NE., Washington, DC 20426.

The Commission is establishing this technical conference to explore the impacts of recent cold weather events on the Regional Transmission Organizations/Independent System Operators (RTO/ISO), and discuss actions taken to respond to those impacts. The conference will look broadly across multiple RTO/ISO regions to inform the Commission of the challenges posed by these cold weather events. Discussion will focus on a number of issues, including: The impact of cold weather events on operational planning and real-time operations, market prices and performance, and regional infrastructure; the actions taken in response to those impacts; gas procurement; and lessons learned that can be shared between regions and applied in future events.

A supplemental notice will be issued prior to the technical conference with further details regarding the agenda and organization of the technical conference. Those interested in attending the technical conference are encouraged to register at the following Web site: https://www.ferc.gov/whats-new/registration/04-01-14-form.asp.

There will be a free webcast of the conference. The webcast will allow persons to listen to the technical conference, but not participate.

Anyone with Internet access who wants to listen to the conference can do so by navigating to www.ferc.gov's Calendar of Events and locating the technical conference in the Calendar. The technical conference will contain a link to its webcast. The Capitol Connection provides technical support for the webcast and offers the option of listening to the meeting via phone-bridge for a fee. If you have any questions, visit www.CapitolConnection.org or call 703-993-3100.

FERC conferences are accessible under section 508 of the Rehabilitation Act of 1973. For accessibility accommodations please send an email to accessibility@ferc.gov or call toll free (866) 208-3372 (voice) or (202) 502-8659 (TTY), or send a fax to (202) 208-2106 with the requested accommodations.

For more information about the technical conference, please contact:

Jordan Kwok (Technical Information), Office of Energy Policy and Innovation, Federal Energy Regulatory Commission, 888 First Street NE., Washington, DC 20426, (202) 502-6161, Jordan.kwok@ferc.gov.

Sarah McKinley (Logistical Information), Office of External Affairs, Federal Energy Regulatory Commission, 888 First Street NE., Washington, DC 20426, (202) 502-8368, Sarah.McKinley@ferc.gov.

Dated: February 21, 2014.
Nathaniel J. Davis, Sr.,
Deputy Secretary.

[FR Doc. 2014-04382 Filed 2-27-14; 8:45 am]

BILLING CODE 6717-01-P